DEPARTMENT OF JUSTICE

Notice of Lodging of Consent Decree Under the Clean Air Act

Under 28 CFR 50.7, notice is hereby given that on June 13, 2007, a proposed Consent Decree (“Decree”) in United States v. Nevada Power Company, Civil Action No. 2:07-cv-00771, was lodged with the United States District Court for the District of Nevada.

The Complaint filed simultaneously with the Consent Decree was brought by the United States against Nevada Power Company (“Nevada Power”) pursuant to Sections 113(b) and 167 of the Clean Air Act (the “Act”), 42 U.S.C. 7413(b) and 7477, seeking injunctive relief and civil penalties for violations of the pre-construction permitting program required by the Prevention of Significant Deterioration (“PSD”) provisions of the Act, 42 U.S.C. 7470-92, and the federally enforceable State Implementation Plan (“SIP”) of Clark County, Nevada. The Complaint alleges that, in 1992, Nevada Power modified, and thereafter operated, two combustion turbines designated as Units 5 and 6 at its Clark Generating Station (“Clark Station”) in Las Vegas, Nevada without first obtaining a PSD pre-construction permit and a Title V Operating Permit authorizing the modification and the subsequent operation of these units, and without installing and operating the “Best Available Control Technology” to control emissions of oxides of nitrogen (“NOx”).

The proposed Consent Decree would require Nevada Power to reduce NOx emissions through, among other things, the installation of pollution control technologies on Units 5 and 6 and on two additional combustion turbines at Clark Station, designated as Units 7 and 8. In addition, the proposed Consent Decree would require Nevada Power to fund $400,000 of solar arrays in Las Vegas. Finally, the proposed Consent Decree would require Nevada Power to pay a $300,000 civil penalty.

The Department of Justice will receive for a period of thirty (30) days from the date of this publication comments relating to the Decree. Comments should be addressed to the Assistant Attorney General, Environment and Natural Resources Division, and either e-mailed to pubcomment-ees.enrd@usdoj.gov or mailed to P.O. Box 7611, U.S. Department of Justice, Washington, DC 20044-7611, and should refer to United States v. Nevada Power Company, D.J. Ref. 90-5-2-1-07969.

The Decree may be examined at the Office of the United States Attorney for the District of Nevada, located at 333 South Las Vegas Blvd., Lloyd George Federal Building, Las Vegas, Nevada, and at U.S. EPA Region 9, located at 75 Hawthorne Street, San Francisco, California. During the public comment period, the Decree may also be examined on the following Department of Justice Web site, http://www.usdoj.gov/enrd/ConsentDecrees.html. A copy of the Decree may also be obtained by mail from the Consent Decree Library, P.O. Box 7611, U.S. Department of Justice, Washington, DC 20044-7611 or faxing or e-mailing a request to Tonia Fleetwood (tonia.fleetwood@usdoj.gov), fax no. (202) 514-0097, phone confirmation number (202) 514-1547. In requesting a copy from the Consent Decree Library, please enclose a check in the amount of $12.75 (25 cents per page reproduction cost) payable to the U.S. Treasury or, if by e-mail or fax, forward a check in that amount to the Consent Decree Library at the stated address. In requesting a copy exclusive of appendices to the Decree, please enclose a check in the amount of $12.00 (25 cents per page reproduction cost) payable to the U.S. Treasury.

W. Benjamin Fisherow,
Deputy Chief, Environmental Enforcement Section, Environment and Natural Resources Division.

[FR Doc. 07-3150 Filed 6-26-07; 8:45 am]

BILLING CODE 4410-15-M